DEPARTMENT OF ENERGY

Federal Energy Regulatory Commission

Combined Notice of Filings #1

Take notice that the Commission received the following electric rate filings:

Docket Numbers: ER10-1585-014; ER10-1594-014; ER10-1597-007; ER10-1617-014; ER10-1624-007; ER10-1628-014; ER10-1632-016; ER12-60-016; ER16-1148-005; ER16-733-005.

Applicants: Alabama Electric Marketing, LLC, California Electric Marketing, LLC, Kiowa Power Partners, LLC, LQA, LLC, New Mexico Electric Marketing, LLC, Tenaska Energía de Mexico, S. de R. L. de C.V., Tenaska Gateway Partners, Ltd., Tenaska Power Management, LLC, Tenaska Power Services Co., Texas Electric Marketing, LLC.

Description: Updated Market Power Analysis of the Tenaska SPP MBR Sellers.

Filed Date: 12/27/18.

Accession Number: 20181227-5143.

Comments Due: 5 p.m. ET 2/25/19.

Docket Numbers: ER10-2757-007; ER11-3051-003.

Applicants: Arlington Valley, LLC, Macho Springs Power I, LLC.

Description: Notice of Change in Status of Arlington Valley, LLC, et al.

Filed Date: 12/27/18.

Accession Number: 20181227-5136.

Comments Due: 5 p.m. ET 1/17/19.

Docket Numbers: ER10-2794-026; ER12-1825-024; ER14-2672-011.

Applicants: EDF Trading North America, LLC, EDF Energy Services, LLC, EDF Industrial Power Services (CA), LLC.

Description: Updated Market Power Analysis for the SPP Region of the EDF Sellers.

Filed Date: 12/27/18.

Accession Number: 20181227-5171.

Comments Due: 5 p.m. ET 2/25/19.

Docket Numbers: ER10-3063-002.

Applicants: Green Country Energy, LLC.

Description: Triennial Market Power Update for the SPP Region of Green Country Energy, LLC.

Filed Date: 12/27/18.

Accession Number: 20181227-5172.

Comments Due: 5 p.m. ET 2/25/19.

Docket Numbers: ER15-2131-005; ER15-2130-005; ER15-2129-005; ER12-2037-012; ER12-2314-008.

Applicants: Spinning Spur Wind LLC, Spearville 3, LLC, Slate Creek Wind Project, LLC, Roosevelt Wind Project, LLC, Milo Wind Project, LLC.

Description: Triennial Market Power Update for the SPP Region of the EDFR SPP Sellers.

Filed Date: 12/26/18.

Accession Number: 20181226-5182.

Comments Due: 5 p.m. ET 2/25/19.

Docket Numbers: ER16-2360-006.

Applicants: Great Western Wind Energy, LLC.

Description: Market-Based Triennial Review Filing: 2018 Triennial Market Power Update for the SPP Region—Great Western Wind to be effective 2/25/2019.

Filed Date: 12/26/18.

Accession Number: 20181226-5171.

Comments Due: 5 p.m. ET 2/25/19.

Docket Numbers: ER17-2258-003.

Applicants: Rock Falls Wind Farm LLC.

Description: Triennial Market Power Update for the Southwest Region of Tucson Electric Power Company, et al.

Filed Date: 12/26/18.

Accession Number: 20181226-5172.

Comments Due: 5 p.m. ET 2/25/19.

Docket Numbers: ER19-463-001.

Applicants: Duke Energy Progress, LLC.

Description: Tariff Amendment: DEC-DEP State ADIT Errata Filing to be effective 1/1/2019.

Filed Date: 12/27/18.

Accession Number: 20181227-5026.

Comments Due: 5 p.m. ET 1/17/19.

Docket Numbers: ER19-688-000.

Applicants: Southern California Edison Company.

Description: § 205(d) Rate Filing: Amended and Restated Agreement for Interconnection Service Harbor Cogeneration to be effective 12/21/2018.

Filed Date: 12/26/18.

Accession Number: 20181226-5173.

Comments Due: 5 p.m. ET 1/16/19.

Docket Numbers: ER19-689-000.

Applicants: The Connecticut Light and Power Company.

Description: Initial rate filing: Clear River Energy LLC Related Facilities Agreement to be effective 2/26/2019.

Filed Date: 12/27/18.

Accession Number: 20181227-5087.

Comments Due: 5 p.m. ET 1/17/19.

Docket Numbers: ER19-690-000.

Applicants: Southwest Power Pool, Inc.

Description: § 205(d) Rate Filing: 3505 ENGIE Energy Marketing NA and Sunflower Meter Agent Agr to be effective 12/1/2018.

Filed Date: 12/27/18.

Accession Number: 20181227-5095.

Comments Due: 5 p.m. ET 1/17/19.

Docket Numbers: ER19-691-000.

Applicants: Southwestern Public Service Company.

Description: § 205(d) Rate Filing: Wholesale Fuel Protocols Update to be effective 3/1/2019.

Filed Date: 12/27/18.

Accession Number: 20181227-5098.

Comments Due: 5 p.m. ET 1/17/19.

Docket Numbers: ER19-692-000.

Applicants: NSTAR Electric Company.

Description: § 205(d) Rate Filing: First Supplement to Stony Brook—Ludlow Agreement to be effective 12/31/2018.

Filed Date: 12/27/18.

Accession Number: 20181227-5135.

Comments Due: 5 p.m. ET 1/17/19.

Docket Numbers: ER19-693-000.

Applicants: NSTAR Electric Company.

Description: Initial rate filing: Clear River Energy LLC Related Facilities Agreement to be effective 2/26/2019.

Filed Date: 12/27/18.

Accession Number: 20181227-5175.

Comments Due: 5 p.m. ET 1/17/19.

Docket Numbers: ER19-694-000.

Applicants: Duke Energy Progress, LLC.

Description: § 205(d) Rate Filing: DEP-FPWC RS No. 184 Amendment to be effective 11/1/2018.

Filed Date: 12/27/18.

Accession Number: 20181227-5179.

Comments Due: 5 p.m. ET 1/17/19.

Docket Numbers: ER19-695-000.

Applicants: Gulf Power Company.

Description: Initial rate filing: Gulf Power FPU PPA Filing to be effective 12/31/9998.

Filed Date: 12/27/18.

Accession Number: 20181227-5182.

Comments Due: 5 p.m. ET 1/17/19.

Docket Numbers: ER19-696-000.

Applicants: Gulf Power Company.

Description: Initial rate filing: Gulf Power SCS-Flint PPA Filing to be effective 12/31/9998.

Filed Date: 12/27/18.

Accession Number: 20181227-5184.

Comments Due: 5 p.m. ET 1/17/19.

Take notice that the Commission received the following public utility holding company filings:

Docket Numbers: PH19-4-000.

Applicants: Pattern Energy Group Inc.

Description: Pattern Energy Group Inc. submits FERC 65-B Waiver Notification.

Filed Date: 12/26/18.

Accession Number: 20181226-5179.

Comments Due: 5 p.m. ET 1/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2018.
Nathaniel J. Davis, Sr.,
Deputy Secretary.

[FR Doc. 2019-00529 Filed 1-30-19; 8:45 am]

BILLING CODE 6717-01-P